ENVIRONMENTAL PROTECTION AGENCY

[FRL-9910-98-Region-1]

Notice of Availability of Draft Npdes General Permits Mag250000 and Nhg250000 for Discharges of Non-Contact Cooling Water in Massachusetts and New Hampshire: the Non-Contact Cooling Water General Permit (NCCW GP)

AGENCY: Environmental Protection Agency (EPA).

ACTION: Notice of Availability of Draft Npdes General Permits MAG250000 and NHG250000.

SUMMARY: The Director of the Office of Ecosystem Protection, EPA—Region 1, is providing a notice of availability of draft National Pollutant Discharge Elimination System (NPDES) general permits for non-contact cooling water discharges to certain waters of the Commonwealth of Massachusetts and the State of New Hampshire. These General Permits replace the Non-contact Cooling Water General Permit (NCCW GP) that expired on July 31, 2013.

DATES: Comment on the draft general permits must be received on or before June 16, 2014.

Public Hearing Information: EPA will hold a public hearing, if necessary, in accordance with 40 CFR 124.12 and will provide interested parties with the opportunity to provide written and/or oral comments for the official administrative record.

ADDRESSES: Comments on the draft NCCW GP shall be submitted by one of the following methods:

(1) Email: warner.suzanne@epa.gov or

(2) Mail: Suzanne Warner, US EPA—Region 1, 5 Post Office Square—Suite 100, Mail Code OEP06-4, Boston, MA 02109-3912.

No facsimiles (faxes) will be accepted.

The draft permit is based on an administrative record available for public review at EPA-Region 1, Office of Ecosystem Protection, 5 Post Office Square-Suite 100, Boston, Massachusetts 02109-3912. A reasonable fee may be charged for copying requests. The fact sheet for the draft general permit sets forth principal facts and the significant factual, legal, methodological and policy questions considered in the development of the draft permit and is available upon request. A brief summary is provided as supplementary information below.

FOR FURTHER INFORMATION CONTACT: Additional information concerning the draft NCCW GP may be obtained between the hours of 9 a.m. and 5 p.m. Monday through Friday, excluding holidays, from Suzanne Warner, Office of Ecosystem Protection, 5 Post Office Square—Suite 100, Boston, MA 02109-3912; telephone: 617-918-1383; email: warner.suzanne@epa.gov.

SUPPLEMENTARY INFORMATION:

EPA is proposing to reissue two draft general permits for non-contact cooling water discharges from facilities located in Massachusetts and New Hampshire. While the draft general permits are two distinct permits, for convenience, EPA has grouped them together in a single document and has provided a single fact sheet for the two draft general permits. This document refers to the draft general “permit” in the singular. The draft general permit, appendices and fact sheet are available at: http://www.epa.gov/region1/npdes/nccwgp.html.

The draft general permit establishes Notice of Intent (NOI) requirements, effluent limitations, standards, prohibitions, and in some cases best technology available (BTA) requirements for facilities that discharge small amounts of non-contact cooling water in Massachusetts and New Hampshire.

The draft permit includes effluent limitations based on best professional judgment (BPJ) and water quality considerations. The effluent limits established in the draft permit assure that the surface water quality standards of the receiving water are maintained and/or attained.

Non-contact cooling water is water used for cooling that does not come into contact with any raw material, intermediate product, waste product, or finished product; the only anticipated pollutant is heat. Discharges composed of anything other than non-contact cooling water will not be granted coverage under this general permit. Those dischargers must seek coverage under an individual permit or an appropriate general permit.

The permit also contains BTA requirements for cooling water intake structures for facilities that withdraw less than 1 MGD of surface water for non-contact cooling in order to ensure source water protection. For facilities that use groundwater or municipal drinking water for non-contact cooling, the permit establishes effluent limitations and/or additional monitoring for expected constituents (metals and residual chlorine, respectively).

Other Legal Requirements

Endangered Species Act (ESA)

EPA has updated the provisions and necessary actions and documentation related to potential impacts to endangered species from facilities seeking coverage under the NCCW GP. EPA has requested concurrence from the appropriate federal services (U.S. Fish and Wildlife Service and National Marine Fisheries Service) in connection with this draft permit.

National Historic Preservation Act (NHPA)

In accordance with NHPA, EPA has established provisions and documentation requirements for facilities seeking coverage under the NCCW GP to ensure that discharges or actions taken under this permit will not adversely affect historic properties and places. EPA has requested concurrence from the appropriate state historic preservation officers (SHPOs) with the draft permit.

Authority: This action is being taken under the Clean Water Act, 33 U.S.C. 1251 et seq.

Dated: May 8, 2014.
Deborah Szaro,
Deputy Regional Administrator.

[FR Doc. 2014-11427 Filed 5-15-14; 8:45 am]

BILLING CODE 6560-50-P